DEPARTMENT OF THE INTERIOR

National Park Service

[NPS-WASO-ANRSS-24195; PPWONRADE2, PMP00EI05.YP0000]

Notice of Availability of the Saline Valley Warm Springs Draft Environmental Impact Statement at Death Valley National Park, California and Nevada

AGENCY: National Park Service, Interior.

ACTION: Notice of Availability.

SUMMARY: The National Park Service (NPS) announces the availability of the Saline Valley Warm Springs Draft Management Plan and Environmental Impact Statement (plan/DEIS).

DATES: The NPS will accept comments on the plan/DEIS for a period of 60 days following publication of the Environmental Protection Agency's (EPA) Notice of Availability of the plan/DEIS in the Federal Register. After the EPA Notice of Availability is published, the NPS will schedule public meetings to be held during the comment period. Dates, times, and locations of these meetings will be announced in press releases and on the plan/DEIS website for the project at http://parkplanning.nps.gov/SalineValleyWarmSprings.

ADDRESSES: You may send comments by any of the following methods:

• NPS Planning, Environment and Public Comment website: http://parkplanning.nps.gov/SalineValleyWarmSprings.

• Mail or Hand Delivery: Superintendent Mike Reynolds, Death Valley National Park, Death Valley National Park, P.O. Box 579, Death Valley, CA 92328.

For detailed instructions on sending comments and additional information, see the “Public Participation” and “How to Comment” heading of the SUPPLEMENTARY INFORMATION section of this document.

FOR FURTHER INFORMATION CONTACT: Please contact Superintendent Mike Reynolds, Death Valley National Park, Death Valley National Park, P.O. Box 579, Death Valley, CA 92328, or by telephone at 760-786-3243. Information is available online for public review at http://parkplanning.nps.gov/SalineValleyWarmSprings.

SUPPLEMENTARY INFORMATION: This process is being conducted pursuant to the National Environmental Policy Act of 1969 (42 U.S.C. 4321 et seq.) and the regulations of the Department of the Interior (43 CFR part 46). The purpose of this plan/DEIS is to develop a management strategy for the Saline Valley Warm Springs area that will complement the Death Valley National Park General Management Plan (GMP). This plan/DEIS is being developed in cooperation with the Timbisha Shoshone Tribe, Inyo County, and the Bureau of Land Management.

Saline Valley is a large desert valley located in the northwest portion of Death Valley National Park. The National Park Service has defined the warm springs area of Saline Valley as approximately 100 acres of back country surrounded by wilderness. It has not been formally or systematically developed for use by the National Park Service but does have a number of user developed and maintained structures and facilities.

The plan/DEIS is intended to provide a framework at the Saline Valley Warm Springs area for: natural and cultural resources management; administration and operations; and managing visitor use. It is intended to provide guidance for Death Valley National Park managers as they work with various stakeholders and promote the partnership between the park and the Timbisha Shoshone Tribe to ensure the Saline Valley Warm Springs area is protected and enhanced by cooperative activities.

Action is needed to implement the GMP and address visitor use and development at the Saline Valley Warm Springs area. Past visitors of the warm springs area have altered the natural aspect of the area through diversion of water from the natural warm springs and through construction of soaking tubs and other amenities. The warm springs area is also part of the Timbisha Shoshone Natural and Cultural Preservation Area, and the ethnographic uses by the Tribe and recreational uses by other visitors can be in conflict.

This plan/DEIS evaluates the impacts of the no-action alternative (Alternative 1) and four action alternatives (Alternatives 2, 3, 4, and 5).

Alternative 1 would continue existing management practices and assume no new management actions would be implemented beyond those available at the outset of this planning process. The users, with help from the volunteer camp hosts, would continue to informally oversee the recreational uses of the warm springs area and visitors would continue to be able to use the Chicken Strip airstrip, soaking tubs and associated facilities as they currently exist.

Under all action alternatives, the park would enforce existing laws and policies and continue to cooperatively manage the area with the Timbisha Shoshone Tribe pursuant to the Timbisha Shoshone Homeland Act of 2000. The NPS could create a no cost registration for all overnight guests. In addition, each action alternative includes some type of fencing, dependent on archeology surveys and consultation, as a means of excluding feral burros from the source springs.

Under Alternative 2, the NPS would retain much of the existing use of the warm springs but bring the actions and conditions into compliance with NPS, state, and federal regulations. The NPS would consult with the Office of Public Health to develop an approach for water quality monitoring, add signs at sinks to inform visitors of non-potable water, add filtration systems for discharged water at the dishwashing stations, and make the facilities accessible to the extent possible. The NPS would also take steps to restore the natural and cultural environments of the warm springs by controlling nonnative plant species, removing user-created fire rings, and requiring visitors to haul out ash and charcoal.

Alternative 3 aims to involve user groups more formally in the cooperative management of the area. The user groups would be engaged through agreements to identify and carry out many of the actions needed to protect natural and cultural resources, protect human health and safety, and maintain visitor facilities. This alternative would employ the same human and health and safety measures as alternative 2 and would involve the installation of artistic fences to protect areas from feral burros. Increased resource protection measures would be implemented including additional nonnative vegetation control, the potential use of food storage boxes, and removing the diversion piping from Burro Spring. Camping would be restricted to designated camping areas and no camping would be allowed within 200 feet of the source springs or Chicken Strip.

Under alternative 4, the NPS would restore the warm springs, as closely as possible, to a natural condition with minimal or no development. Tubs and associated infrastructure would be removed, as would dishwashing stations, showers, vehicle support facilities, airstrip, and vault toilets. Dispersed camping could continue but no camping would be allowed within 200 feet of all water sources. The park would remove nonnative plants and restore native habitats, in addition to installing fencing around warm springs area at the wilderness boundary to prevent access by feral burros.

Alternative 5, the preferred alternative, seeks to encourage cooperative management between the park and user groups while protecting natural and cultural resources and allowing for continued recreational visitor use. Alternative 5 is the same as alternative 3 except for several aspects. Under alternative 5, camping would be allowed at the Chicken Strip airstrip and additional tiedowns could be added. Visitors that camp at the airstrip would be required to pack out their waste, unlike alternative 3. Under alternative 5, the park would not consider the installation of food storage boxes for storage of visitors' food items. Instead, the park would encourage proper storage of food through on-site and online education, the same as alternative 2. Unlike alternative 3, which proposes to install artistic wood fencing to enclose soaking tubs, source springs and riparian areas, this alternative would install fencing around the entire developed warm springs area, dependent on archeology surveys and consultation. This would prevent feral burro access to water sources, vegetation, and campsites while protecting archeological resources along the wilderness boundary.

Public Participation: After the Environmental Protection Agency's Notice of Availability is published, the NPS will schedule public meetings to be held during the comment period near the park. Dates, times, and locations of these meetings will be announced in press releases and on the NPS Planning, Environment, and Public Comment website for the Draft EIS at http://parkplanning.nps.gov/SalineValleyWarmSprings.

How to Comment: You are encouraged to comment on the plan/DEIS online at http://parkplanning.nps.gov/SalineValleyWarmSprings. You may also mail or hand-deliver your written comments to Superintendent Mike Reynolds, Death Valley National Park, Death Valley National Park, P.O. Box 579, Death Valley, CA 92328. Written comments will also be accepted during scheduled public meetings discussed above. Comments will not be accepted by fax, email, or by any method other than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Dated: January 30, 2018.
Martha Lee,
Acting Regional Director, Pacific West.

[FR Doc. 2018-09440 Filed 5-3-18; 8:45 am]

BILLING CODE 4312-52-P